DEPARTMENT OF JUSTICE

Drug Enforcement Administration

Notice of Application

Pursuant to Section 1301.33(a) of title 21 of the Code of Federal Regulations (CFR), this is notice that on June 21, 2002, Noramco, Inc., 1440 Olympic Drive, Athens, Georgia 30601, made Application by letter to the Drug Enforcement Administration (DEA) for registration as a bulk manufacturer of Sufentanil (9740), a basic class of controlled substance listed in Schedule II.

The firm plans to manufacture the listed controlled substance in bulk for distribution to its customers.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: DEA Federal Register Representative (CCR), and must be filed no later than 60 days from publication.

Dated: November 26, 2002.
Laura M. Nagel,
Deputy Assistant Administrator, Office of Diversion Control, Drug Enforcement Administration.

[FR Doc. 02-31073 Filed 12-9-02; 8:45 am]

BILLING CODE 4410-09-M